DEPARTMENT OF THE TREASURY

Internal Revenue Service

Tax Counseling for the Elderly (TCE) Program Availability of Application Packages

AGENCY: Internal Revenue Service (IRS), Treasury.

ACTION: Notice.

SUMMARY: This document provides notice of the availability of Application Packages for the 2012 Tax Counseling for the Elderly (TCE) Program.

DATES: Application Packages are available from the IRS on May 23, 2011. The deadline for submitting an application package to the IRS for the 2012 Tax Counseling for the Elderly (TCE) Program is June 30, 2011. Electronic copies of the application package can be obtained by visiting: IRS.gov (key word search—“TCE”) or Grants.gov. Application packages may also be requested by sending an e-mail to tce.grant.office@irs.gov. Applications may be submitted either via hardcopy by the United States Postal Service, mail, or private delivery service; or electronically through Grants.gov by the deadline date.

ADDRESSES: Internal Revenue Service, 5000 Ellin Road, NCFB C4-110, SE:W:CAR:SPEC:FO:GPO, Lanham, Maryland 20706, Attention: Tax Counseling for the Elderly Grant Program Office.

FOR FURTHER INFORMATION CONTACT: Grant Program Office (404) 338-7894 (not a toll-free telephone number). The e-mail address is tce.grant.office@irs.gov.

SUPPLEMENTARY INFORMATION: Authority for the Tax Counseling for the Elderly (TCE) Program is contained in Section 163 of the Revenue Act of 1978, Public Law 95-600, (92 Stat. 12810), November 6, 1978. Regulations were published in the Federal Register at 44 FR 72113 on December 13, 1979. Section 163 gives the IRS authority to enter into cooperative agreements with private or public non-profit agencies or organizations to establish a network of trained volunteers to provide free tax information and return preparation assistance to elderly individuals. Elderly individuals are defined as individuals age 60 and over at the close of their taxable year. Because applications are being solicited before the FY 2012 budget has been approved, cooperative agreements will be entered into subject to the appropriation of funds.

Dated: May 9, 2011.
Robin Taylor,
Chief, Grant Program Office, IRS, Stakeholder Partnerships, Education & Communication.

[FR Doc. 2011-12794 Filed 5-23-11; 8:45 am]

BILLING CODE 4830-01-P